DEPARTMENT OF THE INTERIOR

National Park Service

National Register of Historic Places; Notification of Pending Nominations and Related Actions

Nominations for the following properties being considered for listing or related actions in the National Register were received by the National Park Service before December 1, 2007.

Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington DC 20005; or by fax, 202-371-6447. Written or faxed comments should be submitted by January 2, 2008.

J. Paul Loether,
Chief, National Register of Historic Places/National Historic Landmarks Program.

ARIZONA

Coconino County

Kane Ranch Headquarters, Approx. 11 mi. S of U.S. 89A on Forest Rd. 8910, House Rock Valley, 07001348.

Picture Canyon Archaeological Site, Address Restricted, Flagstaff, 07001349.

CALIFORNIA

Alameda County

Berkeley High School Campus Historic District, 1980 Allston Way, Berkeley, 07001350.

Hagemann Ranch Historic District, 455 Olivina Ave., Livermore, 07001351.

Monterey County

Carmel Vally Road—Boronda Road Eucalyptus Tree Row, Carmel Valley Rd. & Boronda Rd., Carmel Valley, 07001352.

San Bernardino County

Bono's Restaurant and Deli, 15395 Foothill Blvd., Fontana, 07001353.

COLORADO

Rio Blanco County.

Pyramid Guard Station, Co. Rd. 8, Yampa, 07001354.

CONNECTICUT

Fairfield County

Tod's Point Historic District, Tod's Driftway, Greenwich, 07001355.

DISTRICT OF COLUMBIA

District of Columbia

Washington Navy Yard (Boundary Increase), Generally bounded by M St., Anacostia Rd., Isaac Hull Ave. & 2nd St. SE., Washington, 07001356.

FLORIDA

Hamilton County

Jennings High School, 1291 Florida St., Jennings, 07001357.

IOWA

Polk County

Baker—DeVotie—Hollingsworth Block (Boundary Increase), 516-526 E. Grand Ave., Des Moines, 07001358.

Woodbury County

Sioux City Linseed Oil Works, 210 Court St., Sioux City, 07001359.

MASSACHUSETTS

Hampshire County

Ross Farm, (Underground Railroad in Massachusetts MPS). 123 Meadow St., Northampton, 07001360.

Plymouth County

East Rochester Church and Cemetery Historic District, 355 County Rd., Rochester, 07001361.

Worcester County

Whitmore, Enoch, House, (Underground Railroad in Massachusetts MPS). 12 Daniels Ln., Ashburnham, 07001362.

MONTANA

Chouteau County

First National Bank of Geraldine, 311 Main St., Geraldine, 07001363.

Madison County

Ferris—Hermsmeyer—Fenton, 144 Duncan District Rd., Sheridan, 07001364.

NEW YORK

Greene County

Allan Teator Road Stone Arch Bridge, Allan Teator Rd., West Durham, 07001365.

Croswell—Parsons Paper Mill Ruin, NY 144, New Baltimore, 07001366.

Hervey Street Road Stone Arch Bridge, Hervey Street Rd., & Hervey Street-Sunside Rd., Hervey Street, 07001367.

Shady Glen Road Stone Arch Bridge, Shady Glen Rd. at Stone Bridge Rd., Cornwallville, 07001368.

Rensselaer County

Clark—Dearstyne—Miller Inn, 11-13 Forbes Ave., Rensselaer, 07001369.

Schoharie County

Livingstonville Community Church, 1667 Hauverville Rd., Livingstonville, 07001370

NORTH CAROLINA

Davidson County

Erlanger Mill Village Historic District, Roughly bounded by Winston Rd., Short, 7th, Hames, Second Rainbow, Park Circle, & Olympia Sts., Lexington, 07001371.

Durham County

Trinity Historic District (Boundary Increase II), (Durham MRA), 209-215 N. Gregson St., Durham, 07001372.

Franklin County

Vann, Aldridge H., House, 115 N. Main St., Franklinton, 07001373.

Gaston County

Central School, 317 Washington Ave., Bessemer City, 07001374.

Harnett County

Melvin, Dr. Wayman C. House, 6386 NC 217, Linden, 07001375.

Lincoln County

Reinhardt—Craig House, Kiln and Pottery Shop, 3171 Cat Square Rd., Vale, 07001376.

OREGON

Multnomah County

Bowman, John and Ellen, House, (Architecture of Ellis F. Lawrence MPS), 1719 NE. Knott St., Portland, 07001377.

Kern, Grace, House, 1740 SW. West Point Ct., Portland, 07001378

PENNSYLVANIA

Bucks County

Springtown Historic District, Main St. between Drifting Dr. & Springtown Hill Rd. (Springfield Township), Springtown, 07001379.

Somerset County

Shade Furnace Archaeological District, (Iron and Steel Resources of Pennsylvania MPS), Address Restricted, Reitz, 07001380.

RHODE ISLAND

Providence County

Weybosset Mills Complex, Dike, Oak, Magnolia, Agnes & Troy Sts., Providence, 07001381.

TENNESSEE

Bradley County

Cleveland to Charleston Concrete Highway, Market & Water Sts., Charleston, 07001382.

TEXAS

Dallas County

Greenway Parks Historic District, (Historic Residential Suburbs in the United States, 1830-1960 MPS) Bounded by W. Mockingbird Ln., W. University Blvd., Inwood & N. Dallas Tollway., Dallas, 07001383.

Harris County

Texas State Hotel, 720 Fannin, Houston, 07001384.

WASHINGTON

Pierce County

Lord—Heuston House, 2902 N. Cedar St., Tacoma, 07001385.

Manley—Thompson Ford Agency, 1302-1306 Fawcett Ave., Tacoma, 07001386.

Skamania County

Underwood, Edward and Isabelle, Farm—Five Oaks Farm, 851 Orchard Ln., Underwood, 07001387.

WISCONSIN

Fond Du Lac County

Brandon Village Hall and Library, 117 E. Main St., Brandon, 07001388.

[FR Doc. E7-24294 Filed 12-14-07; 8:45 am]

BILLING CODE 4312-51-P